DEPARTMENT OF TRANSPORTATION

Federal Motor Carrier Safety Administration

[Docket No. FMCSA-2019-0269]

Agency Information Collection Activities; Renewal of a Currently-Approved Information Collection Request: Request for Revocation of Authority Granted

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval and invites public comment. FMCSA requests approval to renew an ICR titled “Request for Revocation of Authority Granted.”

DATES: Please send your comments by May 21, 2020. OMB must receive your comments by this date in order to act quickly on the ICR.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Jeff Secrist, Office of Registration and Safety Information, Department of Transportation, Federal Motor Carrier Safety Administration, West Building 6th Floor, 1200 New Jersey Avenue SE, Washington, DC 20590. Telephone: 202-385-2367; email jeff.secrist@dot.gov.

Office hours are from 9 a.m. to 5 p.m., Monday through Friday, except Federal Holidays.

SUPPLEMENTARY INFORMATION: Title: Request for Revocation of Authority Granted.

OMB Control Number: 2126-0018.

Type of Request: Renewal of a currently approved information collection.

Respondents: Motor Carrier (motor carrier clerical staff).

Estimated Number of Respondents: 5,901.

Estimated Time per Response: 15 minutes (0.25 hours).

Expiration Date: September 30, 2020.

Frequency of Response: On occasion, as needed.

Estimated Total Annual Burden: 1,475 hours.

Background

FMCSA registers for-hire motor carriers of regulated commodities under 49 U.S.C. 13902, surface freight forwarders under 49 U.S.C. 13903, and property brokers under 49 U.S.C. 13904. Each registration is effective from the date specified under 49 U.S.C. 13905(c).

Subsection (d) of 49 U.S.C. 13905 also provides that on application of the registrant, the Secretary may amend or revoke a registration, and hence the registrant's operating authority. Form OCE-46 allows these registrants to apply voluntarily for revocation of their operating authority or parts thereof. If the registrant fails to maintain evidence of the required level of insurance coverage on file with FMCSA, its operating authority will be revoked involuntarily. Although the effect of both types of revocation is the same, some registrants prefer to request voluntary revocation. For various business reasons, a registrant may request revocation of some part, but not all, of its operating authority.

This information collection, which supports the DOT Strategic Goal of Safety, reflects modified estimates of burden hours and costs. For respondents, the program adjustment has resulted in increased total burden hours and an increase in respondent costs. The burden hour increase is due to an estimated increase in the number of annual filings of Form OCE-46 from 3,501 to 5,901 per year, resulting in an increase of 2,400 responses and 600 burden hours.

The previous iteration of this ICR did not include estimated labor costs for respondents; it only reported the estimated annual burden hours. This version adds estimated labor costs according to best practices. The estimated annual labor cost for industry resulting from submitting Form OCE-46 is $49,527.

The total annual respondent cost has decreased by $20,190. This decrease is due to the fact that respondents may now file the form online, at no charge. While the online submission option exists, FMCSA still estimates that approximately 1,567 respondents will continue to file the form by mail, which incurs notarization and postage fees.

For the Federal Government, the program costs have increased by $11,176. While this ICR revised the Federal labor wage load factor downward to be consistent with the methodology used in other FMCSA ICRs, the overall cost to the Federal Government increased due to the increase in the number of forms received by FMCSA.

Public Comments Invited: You are asked to comment on any aspect of this information collection, including: (1) Whether the proposed collection is necessary for the FMCSA to perform it's functions; (2) the accuracy of the estimated burden; (3) ways for the FMCSA to enhance the quality, usefulness, and clarity of the collected information; and (4) ways that the burden could be minimized without reducing the quality of the collected information.

Issued under the authority delegated in 49 CFR 1.87.
Kenneth Riddle,
Acting Associate Administrator,Office of Research and Registration.

[FR Doc. 2020-08373 Filed 4-20-20; 8:45 am]

BILLING CODE 4910-EX-P